Title 3—

The President

Proclamation 10029 of May 7, 2020

Military Spouse Day, 2020

By the President of the United States of America

A Proclamation

Military spouses, who stand alongside our men and women in uniform, share in our service members' heroic endeavors through selfless service, immeasurable contributions, and noble sacrifices. Through their dedication to their loved ones, military spouses support the mission of our Armed Forces to defend our Nation and preserve our liberty. On Military Spouse Day, we pay tribute to these extraordinary individuals who strengthen and enrich our fighting forces, our communities, and our Republic.

The abiding capacity of our Nation's military spouses to balance the many demands of military life reflects their unwavering spirit, fortitude, and grace. They support loved ones who have answered our country's call to duty, raise children far from extended family, and invest in their communities through volunteer service. At the same time, demonstrating their loyal devotion to a cause greater than self, many of them pursue their own educational and career goals and routinely face the stress and uncertainty of frequent moves, as well as the heartache and loneliness of deployment. Their individual stories, interests, and talents are unique, but military spouses share the common bonds of selflessness, strength of character, and faithfulness to a Soldier, Sailor, Airman, Marine, Coast Guardsman, or member of the Space Force.

Our Nation's military spouses bring considerable talent, expertise, and experience to the workplace, and their employment is critical to military recruitment, retention, and readiness. My Administration recognizes that our military spouses face unique obstacles in obtaining and retaining employment. Occupational licensing requirements disproportionally affect them; they earn substantially less than other labor market participants earn; and they currently face an elevated unemployment rate. To help solve this problem, last December, I signed into law legislation that changed residency requirements to allow military spouses to retain their State of residency for business purposes, eliminating the long and expensive process of having to re-register their business following a change in duty station. This legislation also doubled the reimbursement amount for occupational licensing and recertification costs from $500 to $1,000 for military spouses who have a permanent change of station, helping to defray costs for those who work in fields that require documentation.

My Administration is also working with the private, public, and non-profit sectors to help create meaningful jobs, careers, and economic empowerment for military spouses. Through the Department of Defense's Military Spouse Employment Partnership program, we have secured commitments from more than 400 American companies and 13 Federal agencies to recruit, hire, train, retrain, and support military spouses. Additionally, last year, we held two business summits at the White House that resulted in participating companies pledging to work to improve military employment opportunities for military spouses. These patriotic employers are making efforts to review and reduce requirements for certain jobs, partner with other companies to assist with job relocation after a change in duty station, and educate managers on the lifestyle of military spouses and the challenges they face.

Today, we salute the spirit and patriotism of the exceptional women and men who serve as military spouses and embody the best of America. Military spouses are among our country's unsung heroes, serving as the heart of the home front and providing tremendous strength to our Armed Forces. On this Military Spouse Day, the First Lady and I urge our fellow Americans to extend sincere gratitude to our Nation's incredible military spouses.

NOW, THEREFORE, I, DONALD J. TRUMP, President of the United States of America, by virtue of the authority vested in me by the Constitution and the laws of the United States, do hereby proclaim May 8, 2020, as Military Spouse Day. I call upon the people of the United States to honor military spouses with appropriate ceremonies and activities.

IN WITNESS WHEREOF, I have hereunto set my hand this seventh day of May, in the year of our Lord two thousand twenty, and of the Independence of the United States of America the two hundred and forty-fourth.

[FR Doc. 2020-10314

Filed 5-11-20; 11:15 am]

Billing code 3295-F0-P